DEPARTMENT OF THE INTERIOR

National Park Service

[NPS-WASO-NAGPRA-NPS0029884; PPWOCRADN0-PCU00RP14.R50000]

Notice of Inventory Completion: Department of Anthropology, Southern Methodist University, Dallas, TX

AGENCY: National Park Service, Interior.

ACTION: Notice.

SUMMARY: The Department of Anthropology, Southern Methodist University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology, Southern Methodist University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology, Southern Methodist University at the address in this notice by April 27, 2020.

ADDRESSES: B. Sunday Eiselt, Department of Anthropology, Southern Methodist University, 3225 Daniel Avenue, Heroy Hall #450, Dallas, TX 75205, telephone (214) 768-2915, email seiselt@smu.edu.

SUPPLEMENTARY INFORMATION: Notice is here given in accordance with the Native American Graves Protection and Repatriation Act (NAGPRA), 25 U.S.C. 3003, of the completion of an inventory of human remains and associated funerary objects under the control of the Department of Anthropology, Southern Methodist University, Dallas, TX. The human remains and associated funerary objects were removed from Jordan Farm (41CO3) in Cooke County, TX; Kirby Place (41KF9) in Kaufman County, TX; Upper Rockwall (41RW2) in Rockwall County, TX; and Lost Ridge (Tick Site; 41DT6) in Delta County, TX.

This notice is published as part of the National Park Service's administrative responsibilities under NAGPRA, 25 U.S.C. 3003(d)(3). The determinations in this notice are the sole responsibility of the museum, institution, or Federal agency that has control of the Native American human remains and associated funerary objects The National Park Service is not responsible for the determinations in this notice.

Consultation

A detailed assessment of the human remains was made by the Department of Anthropology, Southern Methodist University professional staff in consultation with representatives of the Caddo Nation of Oklahoma and the Wichita and Affiliated Tribes (Wichita, Keechi, Waco & Tawakonie), Oklahoma.

History and Description of the Remains

The Dallas Archeological Society (DAS) was a group of avocational archeologists in the Dallas, Texas area. Their purpose was to systematically study, investigate, and publish on local archeology, paleontology, and geology. The DAS assisted on several professional excavations in North Texas, including the survey of sites in Collin, Dallas, Kaufman, and Rockwall Counties, TX, prior to their being flooded by the construction of the Forney Reservoir, now known as Lake Ray Hubbard, located on the East Fork of the Trinity River. Members of the DAS had prior knowledge of many of the sites in the area to be inundated, some of which had been extensively surface collected prior to the survey. One of the founders of the DAS, R. King Harris, was the original collections curator of SMU's Archaeological Research Collections. In 1974, Harris donated human remains from several burials to the Department of Anthropology that had been excavated during DAS-assisted projects in the Forney area.

In 1949, human remains representing, at minimum, one individual were removed from the Jordan Farm site in Cooke County, TX. Burial 3 is a male 40+ years old. The individual was buried flexed and laying on his back, with his knees drawn up and hands placed under the chin at the neck. Only the skull is present in SMU collections. No known individuals were identified. No associated funerary objects are present.

In 1949, human remains representing, at minimum, one individual were removed from the Kirby Place site (41KF9) in Kaufman County, TX. Burial 1 is a 50+ year old man who was buried flexed. The human remains are mostly complete but fragmentary and show evidence of mild osteitis and periostitis. No known individuals were identified. The one associated funerary object is a bone bead.

In 1948, human remains representing, at minimum, one individual were removed from the Upper Rockwall site (41RW2) in Rockwall County, TX. The individual is a female 40+ years old who was buried flexed and laying on her right side, with her head to the west and her hands in front of her face. The human remains consist of the skull, femurs, and tibiae and show evidence of periostitis and osteitis. No known individuals were identified. No associated funerary objects are present.

In 1955, human remains representing, at minimum, one individual were removed from the Lost Ridge Site, also known as the Tick Site, (41DT6) in Delta County, TX. The individual is a 30-40 year old male who was tightly flexed and laying on his right side, with his head to the west and face to the south. The human remains, which are in good condition, include the skull, femurs, tibiae, and a fibula, and show evidence of periostitis and osteitis. No known individuals were identified. (Five associated funerary objects were found with the burial, but were not donated to SMU).

All four sites date to the Wylie Focus/Late Prehistoric, A.D. 1300-1600. A cultural affiliation exists between the earlier group identified at the sites and both the Caddo Nation of Oklahoma and the Wichita and Affiliated Tribes (Wichita, Keechi, Waco & Tawakonie), Oklahoma.

Determinations Made by the Department of Anthropology, Southern Methodist University

Officials of the Department of Anthropology, Southern Methodist University have determined that:

• Pursuant to 25 U.S.C. 3001(9), the human remains described in this notice represent the physical remains of four individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary objects and the Caddo Nation of Oklahoma and the Wichita and Affiliated Tribes (Wichita, Keechi, Waco & Tawakonie), Oklahoma.

Additional Requestors and Disposition

Lineal descendants or representatives of any Indian Tribe or Native Hawaiian organization not identified in this notice that wish to request transfer of control of these human remains and associated funerary objects should submit a written request with information in support of the request to B. Sunday Eiselt, Department of Anthropology, Southern Methodist University, 3225 Daniel Avenue, Heroy Hall #450, Dallas, TX 75205, telephone (214) 768-2915, email seiselt@smu.edu, by April 27, 2020. After that date, if no additional requestors have come forward, transfer of control of the human remains and associated funerary objects to the Caddo Nation of Oklahoma and the Wichita and Affiliated Tribes (Wichita, Keechi, Waco & Tawakonie), Oklahoma may proceed.

The Department of Anthropology, Southern Methodist University is responsible for notifying the Caddo Nation of Oklahoma and the Wichita and Affiliated Tribes (Wichita, Keechi, Waco & Tawakonie), Oklahoma that this notice has been published.

Dated: February 19, 2020.
Melanie O'Brien,
Manager, National NAGPRA Program.

[FR Doc. 2020-06433 Filed 3-26-20; 8:45 am]

BILLING CODE 4312-52-P